FEDERAL FINANCIAL INSTITUTIONS EXAMINATION COUNCIL

[Docket No. AS17-05]

Appraisal Subcommittee; Notice of Meeting

AGENCY: Federal Financial Institutions Examination Council.

ACTION: Notice of meeting.

Description: In accordance with Section 1104 (b) of Title XI of the Financial Institutions Reform, Recovery, and Enforcement Act of 1989, as amended, notice is hereby given that the Appraisal Subcommittee (ASC) will meet in open session for its regular meeting:

Location: Federal Reserve Board—International Square location; 1850 K Street NW., Washington, DC 20006.

Date: September 13, 2017.

Time: 10:00 a.m.

Status: Open.

Reports

Chairman

Executive Director

Delegated State Compliance Reviews

Financial Report

Action and Discussion Items

May 10, 2017 Open Session Minutes

Appraisal Foundation FY18 Grant Proposal

○ Foundation Grant for AQB and ASB

○ State Grant for Investigator Training

ASC FY18 Budget Proposal

Final Rulemaking—AMC National Registry Fee Implementation

Revised ASC Policy Statements for approval to repost in Federal Register for public comment

Agency Reform Plan for submission to the Office of Management and Budget

How To Attend and Observe an ASC Meeting

If you plan to attend the ASC Meeting in person, we ask that you send an email to meetings@asc.gov. You may register until close of business four business days before the meeting date. You will be contacted by the Federal Reserve Law Enforcement Unit on security requirements. You will also be asked to provide a valid government-issued ID before being admitted to the Meeting. The meeting space is intended to accommodate public attendees. However, if the space will not accommodate all requests, the ASC may refuse attendance on that reasonable basis. The use of any video or audio tape recording device, photographing device, or any other electronic or mechanical device designed for similar purposes is prohibited at ASC meetings.

Dated: August 29, 2017.
James R. Park,
Executive Director.

[FR Doc. 2017-18725 Filed 9-1-17; 8:45 am]

BILLING CODE 6700-01-P